DEPARTMENT OF LABOR

Employment and Training Administration

[TA-W-72,845]

Hewlett Packard; Technical Support Call Center; Boise, ID; Notice of Termination of Investigation

Pursuant to Section 221 of the Trade Act of 1974, as amended, an investigation was initiated in response to a petition filed on November 16, 2009 on behalf of workers Hewlett Packard, Technical Support Call Center, Boise, Idaho.

The petitioner has requested that the petition be withdrawn. Accordingly, the investigation has been terminated.

Signed at Washington, DC, this 19th day of February, 2010.
Elliott S. Kushner,
Certifying Officer, Division of Trade Adjustment Assistance.

[FR Doc. 2010-5361 Filed 3-11-10; 8:45 am]

BILLING CODE 4510-FN-P